ENVIRONMENTAL PROTECTION AGENCY

40 CFR Part 300

[EPA-HQ-SFUND-1989-0007; FRL-9912-80-Region 5]

National Oil and Hazardous Substances Pollution Contingency Plan; National Priorities List: Partial Deletion of the Naval Industrial Reserve Ordnance Plant (NIROP) Superfund Site

AGENCY: Environmental Protection Agency (EPA).

ACTION: Proposed rule; notice of intent.

SUMMARY: EPA Region 5 is issuing a Notice of Intent to Delete Operable Unit 2 (OU2) of the Naval Industrial Reserve Ordnance Plant (NIROP) Superfund Site (Site), located in Fridley, Minnesota, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA with the concurrence of the State of Minnesota, through the Minnesota Pollution Control Agency (MPCA), has determined that all appropriate response actions under CERCLA at the OU, identified herein, other than operation, maintenance, and five-year reviews, have been completed. However, this partial deletion does not preclude future actions under Superfund.

EPA divided the NIROP Site into three portions, known as OUs, for ease of addressing its contaminant issues. This partial deletion pertains to the OU2 portion of NIROP, which includes all the unsaturated soils within the legal boundaries of the NIROP Superfund Site exclusive of unsaturated soils underlying the former Plating Shop Area (see Site Map in the SEMS ID 446572 document listed in the Deletion Docket for OU2). The following areas will remain on the NPL and are not being considered for deletion as part of this action: OU1 and OU3. OU1 includes the contaminated groundwater within and originating from the NIROP Superfund Site. OU3 includes all the unsaturated soils underlying the former Plating Shop Area.

DATES: Comments must be received by July 30, 2014.

ADDRESSES: Submit your comments, identified by Docket ID no. EPA-HQ-SFUND-1989-0007, by one of the following methods:

• http://www.regulations.gov: Follow online instructions for submitting comments.

• Email: Sheila Desai, Remedial Project Manager, at desai.sheila@epa.gov or Theresa Jones, Community Involvement Coordinator, at jones.theresa@epa.gov.

• Fax: Gladys Beard at (312) 697-2077.

• Mail: Sheila Desai, Remedial Project Manager, U.S. Environmental Protection Agency (SR-6J), 77 West Jackson Boulevard, Chicago, IL 60604, (312) 353-4150 or Teresa Jones, Community Involvement Coordinator, U.S. Environmental Protection Agency (SI-7J), 77 West Jackson Boulevard, Chicago, IL 60604, (312) 886-0725 or toll free at 1-(800) 621-8431.

• Hand delivery: Teresa Jones, Community Involvement Coordinator, U.S. Environmental Protection Agency (SI-7J), 77 West Jackson Boulevard, Chicago, IL 60604. Such deliveries are only accepted during the docket's normal hours of operation, and special arrangements should be made for deliveries of boxed information. The normal business hours are Monday through Friday, 8:30 a.m. to 4:30 p.m. CST, excluding federal holidays.

Instructions: Direct your comments to Docket ID no. EPA-HQ-SFUND-1989-0007. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically at http://www.regulations.gov or in hard copy at:

• U.S. Environmental Protection Agency Region 5, 77 West Jackson Boulevard, Chicago, IL 60604, Phone: (312) 353-1063, Hours: Monday through Friday, 8:30 a.m. to 4:30 p.m. CST, excluding federal holidays.

• The Navy has set up an online repository for the NIROP Superfund Site at the link below. Please click on the Administrative Record File link to see all the documents. http://go.usa.gov/DyNY

• The Minnesota Pollution Control Agency also has an information repository for the NIROP Superfund Site at their offices: 520 Lafayette Road, St. Paul, MN 55155. Call 651-296-6300 or toll-free at 800-657-3864 to schedule an appointment.

FOR FURTHER INFORMATION CONTACT: Sheila Desai, Remedial Project Manager, Environmental Protection Agency (SR-6J), 77 West Jackson Boulevard, Chicago, IL 60604, (312) 353-4150, desai.sheila@epa.gov.

SUPPLEMENTARY INFORMATION: In the “Rules and Regulations” section of today's Federal Register, we are publishing a direct final Notice of Partial Deletion for OU2 of the NIROP Superfund Site without prior Notice of Intent for Partial Deletion because EPA views this as a noncontroversial revision and anticipates no adverse comment. We have explained our reasons for this deletion in the preamble to the direct final Notice of Partial Deletion, and those reasons are incorporated herein. If we receive no adverse comment(s) on this partial deletion action, we will not take further action on this Notice of Intent for Partial Deletion. If we receive adverse comment(s), we will withdraw the direct final Notice of Partial Deletion, and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion which is located in the “Rules and Regulations” section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: June 10, 2014.
Susan Hedman,
Regional Administrator, Region 5.

[FR Doc. 2014-15256 Filed 6-27-14; 8:45 am]

BILLING CODE 6560-50-P